DEPARTMENT OF AGRICULTURE

Forest Service

Del Norte County Resource Advisory Committee

AGENCY: Forest Service, USDA.

ACTION: Notice of meetings.

SUMMARY: The Del Norte County Resource Advisory Committee (RAC) will meet on June 22 and June 29 in Crescent City, California. The purpose of the meetings is to discuss the selection of Title II projects under Public Law 106-393, H.R. 2389, the Secure Rural Schools and Community Self-Determination Act of 2000, also called the “Payments to States” Act.

DATES: The meetings will be held on June 22 and June 29 from 6 to 8:30 p.m.

ADDRESSES: The meetings will be held at the Del Norte County Unified School District Board Room, 301 West Washington, Crescent City, California.

FOR FURTHER INFORMATION CONTACT: Laura Chapman, Committee Coordinator, USDA, Six Rivers National Forest, 1330 Bayshore Way, Eureka, CA 95501. Phone: (707) 441-3549. E-mail: lchapman@fs.fed.us.

SUPPLEMENTARY INFORMATION: The purpose of the meetings is to select Title II projects for fiscal year 2005. The meetings are open to the public. Public input opportunity will be provided at each meeting and individuals will have the opportunity to address the committee during that time.

Dated: May 24, 2004.
William D. Metz,
Acting Forest Supervisor.

[FR Doc. 04-12392 Filed 6-1-04; 8:45 am]

BILLING CODE 3410-11-M